DEPARTMENT OF TRANSPORTATION

Federal Aviation Administration

14 CFR Part 39

[Docket No. FAA-2024-1475; Project Identifier MCAI-2024-00062-T]

RIN 2120-AA64

Airworthiness Directives; Airbus SAS Airplanes

AGENCY: Federal Aviation Administration (FAA), DOT.

ACTION: Proposed rule; withdrawal.

SUMMARY: The FAA is withdrawing a notice of proposed rulemaking (NPRM) that proposed to adopt a new airworthiness directive (AD) that would have applied to all Airbus SAS Model A319-111, -112, -113, -114, -115, -131, -132, and -133 airplanes; Model A320-211, -212, -214, -216, -231, -232, and -233 airplanes; and Model A321-111, -112, -131, -211, -212, -213, -231, -232, and -271N airplanes. The NPRM was prompted by a determination that a damage-tolerance and fatigue reassessment of nose landing gear (NLG) repairs is necessary for certain parts fitted on airplanes approved for operation in the Commonwealth of Independent States (CIS). The NPRM would have required repair and replacement of all affected parts, and would have limited installation of affected parts, as specified in a European Union Aviation Safety Agency (EASA) AD. Since issuance of the NPRM, the FAA has determined that the applicability as specified in the NPRM was incorrect; the FAA is issuing new rulemaking that corrects the applicability. Accordingly, the NPRM is withdrawn.

DATES: As of September 26, 2024, the proposed rule, which was published in the Federal Register on May 24, 2024 (89 FR 45800), is withdrawn.

ADDRESSES:

AD Docket: You may examine the AD docket at regulations.gov under Docket No. FAA-2024-1475; or in person at Docket Operations between 9 a.m. and 5 p.m., Monday through Friday, except Federal holidays. The AD docket contains this AD action, the mandatory continuing airworthiness information (MCAI), any comments received, and other information. The street address for Docket Operations is U.S. Department of Transportation, Docket Operations, M-30, West Building Ground Floor, Room W12-140, 1200 New Jersey Avenue SE, Washington, DC 20590.

FOR FURTHER INFORMATION CONTACT: Timothy Dowling, Aviation Safety Engineer, FAA, 1600 Stewart Avenue, Suite 410, Westbury, NY 11590; phone 206-231-3667; email Timothy.P.Dowling@faa.gov.

SUPPLEMENTARY INFORMATION:

Background

The FAA issued an NPRM that proposed to amend 14 CFR part 39 by adding an AD for all Airbus SAS Model A319-111, -112, -113, -114, -115, -131, -132, and -133 airplanes; Model A320-211, -212, -214, -216, -231, -232, and -233 airplanes; and Model A321-111, -112, -131, -211, -212, -213, -231, -232, and -271N airplanes. The NPRM was published in the Federal Register on May 24, 2024 (89 FR 45800). The NPRM was prompted by a determination that a damage-tolerance and fatigue reassessment of NLG repairs is necessary for certain parts fitted on airplanes approved for operation in the CIS. The NPRM proposed to require repair and replacement of all affected parts, and to limit the installation of affected parts, as specified in an EASA AD.

The proposed actions were intended to address NLG repairs for certain parts fitted on airplanes approved for operation in the CIS, and to prevent damage or failure of the affected parts and the NLG, and possible damage to the airplane and injury to occupants.

Actions Since the NPRM Was Issued

Since issuance of the NPRM, the FAA has learned of errors in the applicability. Paragraph (c)(3) of the NPRM included some airplanes that were not intended to be included, and it omitted airplanes that should have been included. In light of this error, the FAA is issuing further rulemaking (Docket No. FAA-2024-2314) to correct the applicability.

Withdrawal of the NPRM constitutes only such action and does not preclude the FAA from further rulemaking on this issue, nor does it commit the FAA to any course of action in the future.

Comments

The Air Line Pilots Association, International (ALPA) supported the NPRM. American Airlines advised the FAA of errors in the applicability specified in the NPRM.

Explanation of Applicability Errors

The following errors were included in the NPRM:

• Paragraph (c)(1) of the proposed AD incorrectly omitted Model A319-151N and -153N airplanes.

• Paragraph (c)(2) of the proposed AD incorrectly omitted Model A320-251N, -252N, -253N, -271N, -272N, and -273N airplanes.

• Paragraph (c)(3) of the proposed AD incorrectly included A321-111, -112, and -131 airplanes, and omitted Model A321-211, -212, -213, -231, -232, -251N, -251NX, -252N, -252NX, -253N, -253NX, -271N, -271NX, -272N, and -272NX airplanes.

FAA's Conclusions

Upon further consideration, the FAA has determined that the NPRM does not adequately address the identified unsafe condition. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (Docket No. FAA-2024-1475), which was published in the Federal Register on May 24, 2024 (89 FR 45800), is withdrawn.

Issued on September 19, 2024.
Peter A. White,
Deputy Director, Integrated Certificate Management Division, Aircraft Certification Service.

[FR Doc. 2024-21812 Filed 9-25-24; 8:45 am]

BILLING CODE 4910-13-P